DEPARTMENT OF HOMELAND SECURITY

Coast Guard

33 CFR Part 165

[CGD09-02-003]

Safety Zone; Captain of the Port Milwaukee Zone

AGENCY: Coast Guard, DHS.

ACTION: Notice of implementation of regulation.

SUMMARY: The Coast Guard is implementing safety zones for annual fireworks displays in the Captain of the Port Milwaukee Zone during July 2003. This action is necessary to provide for the safety of life and property on navigable waters during these events. These zones will restrict vessel traffic from a portion of the Captain of the Port Milwaukee Zone.

DATES: 33 CFR 165.909 is effective from 12:01 a.m. (CST) on July 1, 2003 through 11:59 p.m. (CST) on July 31, 2003.

FOR FURTHER INFORMATION CONTACT: Marine Science Technician Chief Dave McClintock, U.S. Coast Guard Marine Safety Office Milwaukee, at (414) 747-7155.

SUPPLEMENTARY INFORMATION:

The Coast Guard is implementing the permanent safety zones in 33 CFR 165.909 (published July 3, 2002, in the Federal Register, 67 FR 44588), for fireworks displays in the Captain of the Port Milwaukee Zone during July 2003. The following safety zones are in effect for fireworks displays occurring in the month of July 2003:

U.S. Bank (Firstar) Fireworks. This safety zone will be enforced on July 3, 2003 from 9:20 p.m. until 10:10 p.m. In the event of inclement weather, the rain date will be during these same times on July 4, 2003.

Festa Italiana Fireworks. This safety zone will be enforced on July 17th through the 20th, 2003 from 10 p.m. until 10:30 p.m.

Dated: June 30, 2003.
Virginia J. Kammer,
Lieutenant Commander, U.S. Coast Guard, Acting Captain of the Port Milwaukee.

[FR Doc. 03-17369 Filed 7-8-03; 8:45 am]

BILLING CODE 4910-15-P